DEPARTMENT OF LABOR

Employment and Training Administration

[TA—39,533]

FCI Electronics Mount Union, PA; Notice of Termination and Investigation

Pursuant to Title 221 of the Trade Act of 1974, an an investigation was initiated on July 2, 2001 in response to a petition filed on behalf of workers at FCI Electronics Mount Union, Pennsylvania.

All workers of the subject firm were already the subject of an on-going investigation, TA-W-39,519. Consequently, further investigation in this case would serve no purpose, and the investigation has been terminated.

Dated: Signed at Washington, D.C., this 14th day of August, 2001.
Linda G. Poole,
Certifying Officer, Division of Trade Adjustment Assistance.

[FR Doc. 01-21315 Filed 8-22-01; 8:45 am]

BILLING CODE 4510-30-M